DEPARTMENT OF COMMERCE

Foreign-Trade Zones Board

[Docket 6-2012]

Foreign-Trade Zone 219—Yuma, AZ; Application for Reorganization and Expansion Under Alternative Site Framework

An application has been submitted to the Foreign-Trade Zones (FTZ) Board (the Board) by the Greater Yuma Economic Development Corporation, grantee of FTZ 219, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on January 13, 2012.

FTZ 219 was approved by the Board on April 2, 1997 (Board Order 874, 62 FR 17850-17851, 04/10/1997) and expanded on April 5, 2001 (Board Order 1161, 66 FR 19422, 04/16/2001); February 7, 2003 (Board Order 1267, 68 FR 9047, 02/27/2003); and, June 25, 2004 (Board Order 1341, 69 FR 40600, 07/06/2004).

The current zone project includes the following sites: Site 1 (125 acres)—within the Yuma International Airport, 2191 East 32nd Street, Yuma; Site 2 (95 acres)—Yuma Commerce Center, East 30th Street and South Avenue 7E, Yuma; and, Site 3 (75 acres)—Big Lot Industrial LLC, 2301 North Main Street, San Luis.

The grantee's proposed service area under the ASF would be all of Yuma County, Arizona, as described in the application. If approved, the grantee would be able to serve sites throughout the service area based on companies' needs for FTZ designation. The proposed service area is within and adjacent to the San Luis U.S. Customs and Border Protection port of entry.

The applicant is requesting authority to reorganize and expand its existing zone project to include existing Sites 1 and 2 as “magnet” sites as well as requesting approval of an additional “magnet” site: Proposed Site 4 (220 acres)—The Greater Yuma Port Authority Industrial Park, 1002 South Avenue D, San Luis. The ASF allows for the possible exemption of one magnet site from the “sunset” time limits that generally apply to sites under the ASF, and the applicant proposes that Site 1 be so exempted. The applicant is also requesting approval of the following initial “usage-driven” site: Proposed Site 5 (36 acres)—Johnson Controls Battery Group, 3740 South Arizona Avenue, Yuma. In addition, the applicant is requesting that existing Site 3 be removed from the zone project due to changed circumstances. Because the ASF only pertains to establishing or reorganizing a general-purpose zone, the application would have no impact on FTZ 219's authorized subzone.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is March 20, 2012. Rebuttal comments in response to material submitted during the foregoing period may be submitted during the subsequent 15-day period to April 4, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: January 13, 2012.
Andrew McGilvray,
Executive Secretary.

[FR Doc. 2012-1105 Filed 1-19-12; 8:45 am]

BILLING CODE P